FEDERAL TRADE COMMISSION

Granting of Request For Early Terminiation of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in theFederal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—09/14/2004
20041328 | Seiko Epson Corporation | Sanyo Epson Imaging Devices Corporation | Sanyo Epson Imaging Devices Corporation.
20041335 | J.P. Morgan Chase & Co. | TruSecure Corporation | TruSecure Corporation.
20041342 | Ricoh Company, Ltd. | Hitachi, Ltd. | Hitachi Printing Solutions, Ltd.
20041353 | Trevor Lloyd | Robert (and wife, Elsa) Eustace | Applied Systems, Inc.
20041354 | Cox Enterprises, Inc. | Cox Enterprises, Inc. | TCA Cable Partners.
20041357 | Kenneth R. Thomson | KnowledgeNet.com, Inc. | KnowledgeNet.com, Inc.
20041369 | Cisco Systems, Inc. | P-Cube, Inc. | P-Cube, Inc.
20041371 | J.W. Childs Equity Partners III, L.P. | Fitness Quest, Inc. | Fitness Quest, Inc.
20041376 | CCG Investments BVI, L.P. | Richard T. Lilly | Lilly Software Associates, Inc.
20041377 | UICI | HealthMarket Inc. | HealthMarket Administrative Services, Inc.
20041378 | Lincoln Insurance Group, Inc. | Security Mutual Life Nebraska Holding Company | SML Holdings Co.
TRANSACTIONS GRANTED EARLY TERMINATION—09/15/2004
20041364 | Collins Stewart Tullett plc | Arthur Hughes | FPG Holdings Limited
TRANSACTIONS GRANTED EARLY TERMINATION—09/16/2004
20041367 | The Hearst Trust | White Directory Publishers, Inc. | White Directory of Carolina, Inc., White Directory of Florida, Inc., White Directory of New England, Inc., White Directory of Pennsylvania, Inc., White Directory of Virginia, LLC, White Directory Publishers, Inc.
TRANSACTIONS GRANTED EARLY TERMINATION—09/17/2004
20040710 | General Electric Company | InVision Technologies, Inc. | InVision Technologies, Inc.
20041356 | GC Power Acquisition LLC | Centerpoint Energy, Inc. | Texas Genco Holdings, Inc., Texas Genco II LP, Texas Genco Services, LP
20041382 | International Power plc | Edison International | EME del Caribe Holding GmbH
20041383 | MGI Pharma, Inc. | SuperGen, Inc. | SuperGen, Inc.
20041392 | Austin Ventures VIII, L.P. | Mr. Russell B. Inserra | Orion Marine Group Holdings, Inc.
20041393 | George David | United Technologies Corporation | United Technologies Corporation
20041400 | QUALCOMM Incorporated | Iridigm Display Corporation | Iridigm Display Corporation.
TRANSACTIONS GRANTED EARLY TERMINATION—09/20/2004
20041314 | ConMed Corporation | C.R. Bard, Inc. | C.R. Bard, Inc.
20041370 | UBS AG | The Charles Schwab Corporation | Schwab Capital Markets L.P., SoundView Technology Group, Inc.
20041396 | Sumitomo Corporation | PG&E Corporation | Hermiston Generating Company, L.P., Airport Ale House and Raw Bar, Inc., Alafaya Ale House and Raw Bar, Ltd., Ale House Management, Inc., Alpharetta Ale House and Raw Bar, Inc., Altamonte Ale House and Raw Bar, Inc., Boca Ale House and Raw Bar, Inc., Boynton Ale House, Inc., Bradenton Ale House and Raw Bar, Inc., Brandon Ale House and Raw Bar, Ltd., Buena Vista Ale House Raw Bar, Inc., Coral Springs Ale House and Raw Bar, Ltd., Davie Ale House and Raw Bar, Ltd., Daytona Ale House and Raw Bar, Ltd., Doral Ale House and Raw Bar, Inc., Florida Mall Ale House and Raw Bar, Inc., Fort Lauderale Ale House and Raw Bar, Inc., Ft Myers Ale House and Raw Bar Eas, Inc., Gardens Ale House and Raw Bar, Inc., Hiawassee Ale House and Raw Bar, Inc., Hollywood Ale House and Raw Bar, Inc., Jupiter Ale House, Inc., Kendall Ale House and Raw Bar, Inc., Kirkman Road Ale House and Raw Bar, Inc., Lakeland Ale House and Raw Bar, Inc., Mandarin Ale House and Raw Bar, Inc., North Miami Ale House and Raw Bar, Inc., Ocala Ale House and Raw Bar, Inc., Orlando Ale House and Raw Bar, Inc., Palm Harbor Ale House and Raw Bar, Inc., Pembroke Pines Ale House and Raw Bar, Ltd., Regency Ale House and Raw Bar, Ltd., Sanford Ale House and Raw Bar, Inc., Sarasota Ale House and Raw Bar, Inc., Southside Ale House and Raw Bar, Inc., St. Petersburg Ale House and Raw Bar, Inc., Tampa Ale House and Raw Bar, Inc., UNCC Charlotte Ale House and Raw Bar Limited Partnership.
20041399 | SKM Equity Fund III, L.P | John W. Miller
TRANSACTIONS GRANTED EARLY TERMINATION—09/21/2004
20041263 | Morton Manus and Iris Manus | WMG Parent Corporation | CPP/Belwin, Inc., International Music Publications Limited, Warner Bros, Publications U.S. Inc.
20041391 | SCF-IV, L.P. | Mr. Harold Hamm | Hamm Co., Rental Tools, Inc.
TRANSACTIONS GRANTED EARLY TERMINATION—09/23/2004
20041394 | ArcLight Energy Partners Fund II, L.P. | General Electric Company | TIFD III-C, Inc.
TRANSACTIONS GRANTED EARLY TERMINATION—09/24/2004
20041333 | Kenneth R. Thomson | Educational Testing Service | iLearning, Inc., The Chauncey Group Holdings Inc.

FOR FURTHER INFORMATION CONTACT: Sandra M. Peay, Contact Representative or Renee Hallman, Case Management Assistant, Federal Trade Commission, Premerger Notification Office, Bureau of Competition, Room H-303, Washington, DC 20580 (202) 326-3100.

By Direction of the Commission.
Donald S. Clark,
Secretary.

[FR Doc. 04-22930 Filed 10-12-04; 8:45 am]

BILLING CODE 6750-01-M